DEPARTMENT OF COMMERCE

Bureau of Industry and Security

15 CFR Part 744

[Docket No. 130809700-3700-01]

RIN 0694-AF96

Addition of Certain Persons to the Entity List; Amendment of Entity List Entries; and Removal of One Person From the Entity List Based on a Removal Request

AGENCY: Bureau of Industry and Security, Commerce.

ACTION: Final rule.

SUMMARY: This rule amends the Export Administration Regulations (EAR) by adding thirty-six persons under forty-six entries to the Entity List, revising three existing entries, and removing one entry. The persons who are added to the Entity List have been determined by the U.S. Government to be acting contrary to the national security or foreign policy interests of the United States. These persons will be listed on the Entity List under the following destinations: Armenia, Canada, China, Germany, Greece, Hong Kong, Iran, Malaysia, Thailand, Turkey, and the United Arab Emirates (U.A.E.). This rule is also revising one existing entry under Sweden to correct the entry by providing an address for this listed person under the destination of Estonia, and revising two entries in Canada, the first by removing two addresses, and the second by updating an address. Lastly, this rule removes one person in Russia from the Entity List. This person is being removed from the Entity List as a result of a request for removal submitted by the person, a review of information provided in the removal request in accordance with the procedures for requesting removal or modification of an Entity List entity, and further review conducted by the ERC.

DATES: Effective Date: This rule is effective December 12, 2013.

FOR FURTHER INFORMATION CONTACT: Karen Nies-Vogel, Chair, End-User Review Committee, Office of the Assistant Secretary, Export Administration, Bureau of Industry and Security, Department of Commerce, Phone: (202) 482-5991, Fax: (202) 482-3911, Email: ERC@bis.doc.gov.

SUPPLEMENTARY INFORMATION:

Background

The Entity List (Supplement No. 4 to Part 744) notifies the public about entities that have engaged in activities that could result in an increased risk of the diversion of exported, reexported or transferred (in-country) items to weapons of mass destruction (WMD) programs. Since its initial publication, grounds for inclusion on the Entity List have expanded to include activities sanctioned by the State Department and activities contrary to U.S. national security or foreign policy interests, including terrorism and export control violations involving abuse of human rights. Certain exports, reexports, and transfers (in-country) to entities identified on the Entity List require licenses from BIS and are usually subject to a policy of denial. The availability of license exceptions in such transactions is very limited. The license review policy for each entity is identified in the license review policy column on the Entity List and the availability of license exceptions is noted in the Federal Register notices adding persons to the Entity List. BIS places entities on the Entity List based on certain sections of part 744 (Control Policy: End-User and End-Use Based) of the EAR.

The End-user Review Committee (ERC), composed of representatives of the Departments of Commerce (Chair), State, Defense, Energy and, where appropriate, the Treasury, makes all decisions regarding additions to, removals from, or other modifications to the Entity List. The ERC makes all decisions to add an entry to the Entity List by majority vote and all decisions to remove or modify an entry by unanimous vote.

ERC Entity List Decisions

Additions to the Entity List

This rule implements the decision of the ERC to add thirty-six persons under forty-six entries to the Entity List on the basis of § 744.11 (License requirements that apply to entities acting contrary to the national security or foreign policy interests of the United States) of the EAR. The forty-six entries added to the Entity List consist of one entry in Armenia, two entries in Canada, four entries in China, one entry in Germany, two entries in Greece, five entries in Hong Kong, five entries in Iran, four entries in Malaysia, four entries in Thailand, eleven entries in Turkey, and seven entries in the U.A.E. There are 46 entries to address 36 persons because seven of the persons are being listed under multiple countries, resulting in the additional ten entries. Specifically, these ten additional entries cover one person in Canada who also has addresses in Iran and the U.A.E. (resulting in two additional entries for the Iranian and U.A.E. addresses), one person in China who also has an address in Hong Kong (resulting in one additional entry for the Hong Kong address), two persons in Greece who also have addresses in Turkey (resulting in two additional entries for the Turkish addresses), two persons in Hong Kong who also have addresses in Iran and Malaysia (resulting in four additional entries for the Iranian and Malaysian addresses), and one person in Iran who also has an address in Thailand (resulting in one additional entry for the Thai addresses).

The ERC reviewed § 744.11(b) (Criteria for revising the Entity List) in making the determination to add these thirty-six persons under forty-six entries to the Entity List. Under that paragraph, persons for whom there is reasonable cause to believe, based on specific and articulable facts, that they have been involved, are involved, or pose a significant risk of being or becoming involved in, activities that are contrary to the national security or foreign policy interests of the United States and those acting on behalf of such persons may be added to the Entity List pursuant to § 744.11. Paragraphs (b)(1) through (b)(5) of § 744.11 include an illustrative list of activities that could be contrary to the national security or foreign policy interests of the United States.

The thirty-six persons under forty-six entries being added have been determined by the ERC to be involved in activities that are contrary to the national security or foreign policy interests of the United States, specifically the activities described under paragraphs (b)(4) and (b)(5) of § 744.11.

The ERC has reasonable cause to believe that the following five persons, who are being added under nine entries in this rule and are located in Hong Kong, Iran, and Malaysia, reexported or caused to be reexported items subject to the EAR to Iran in violation of Department of the Treasury, Office of Foreign Assets Control regulations and the EAR: Anvik Technologies Sdn. Bhd., Montana Advanced Engineering Sdn Bhd., Albin Technologies Sdn Bhd., Hansen Technologies Limited, and Babak Jafarpour. Specifically, the above-referenced persons were involved in purchasing items subject to the EAR from U.S. companies and having the items shipped via virtual offices and freight forwarders in Hong Kong and Malaysia to Iran. The items purchased included items controlled under categories three and seven on the Commerce Control List (CCL).

The ERC also has reasonable cause to believe that the following five persons, who are being added under six entries in this rule and are located in China and Hong Kong, acted as procurement agents for Beijing University of Aeronautics and Astronautics (a.k.a. BUAA, Beihang University): Beijing Tianhua, Tenfine Ltd., Longtek Company, Ltd., FOC (HK) Technology Co., Ltd., and Comsum Technologies (Group) Ltd. BUAA has been on the Entity List since May 2001 (see 66 FR 24266). As a result of its inclusion on the Entity List, BUAA is subject to a license requirement for all items subject to the EAR and a license review policy pursuant to § 744.3 of the EAR (Restrictions on Certain Rocket Systems . . . and Unmanned Air Vehicles . . . End-Uses). The ERC determined that these entities have facilitated at least seventy-five shipments of items subject to the EAR and destined for end-use at BUAA.

The ERC also has reasonable cause to believe that the following seven persons, who are being added under nine entries in this rule and are located in Canada, Germany, Iran, Turkey, and the U.A.E., are part of a procurement ring that coordinated the sale and supply of items subject to the EAR to Iran in violation of Department of the Treasury, Office of Foreign Assets Control (OFAC) regulations and the EAR: Saeed Talebi, Satco, Satco Corporation, Satco GmbH, Kadin Satco FZE, AAG Makina, and Murat Peker. Specifically, Talebi purchased items subject to the EAR from U.S. companies and shipped them via Germany and Turkey to Iran. To facilitate his scheme, Talebi established businesses in the U.A.E., Germany, and Canada. Peker, an employee of AAG Makina in Turkey, worked with Talebi to facilitate certain of the shipments through the provision of false information to the U.S. Government on the shipments' final destination.

The ERC also has reasonable cause to believe that the following nineteen persons, which are being added under twenty-two entries in this rule and are located in Armenia, Greece, Iran, Thailand, Turkey, and the U.A.E., are part of a procurement ring that has coordinated the sale and supply of items subject to the EAR to Iran in violation of Department of the Treasury, Office of Foreign Assets Control (OFAC) regulations and the EAR: Aeolian Airlines, Seyyed Abdolreza Mousavi, Eurocenter Havacilik Dis Ticaret Limited Sirketi, Kral Aviation Services Ltd., Kral Aviaton, Asian Aviation Logistics Co., Ltd., Gulnihal Yegane, Pioneer Logistics Havacilik Turizm Yoonetim Danismanlik Ithalat Thracat San. Tic. Ltd. Sti, Thrust Aviation FZE, Aerostar Asset Management FZC, Avistar Havacilik Bilisim Turizm Insaat Sanayi Ve Ticaret Limited Sirketi, Mostafa Oveici, Vertir Airlines, Sawa Air Aviation FZCO, Avia Trust, Khalidee Boolay Surinanda, Kosol Surinanda, Ergin Turker, and Glasgow International Trading. Specifically, these persons have engaged in the development and operation of an illicit aviation procurement network designed to evade the U.S. Government's sanctions against Iran. The aggressive procurement scheme implemented by these persons has directly supported the operation of Mahan Airlines within Iran and throughout the world. Mahan Airlines has been on BIS's Denied Persons List since 2008. See 78 FR 48138 (August 7, 2008).

Pursuant to § 744.11(b)(4) and (b)(5) of the EAR, the ERC determined that the conduct of these thirty-six persons raises sufficient concern that prior review of exports, reexports, or transfers (in-country) of items subject to the EAR involving these persons, and the possible imposition of license conditions or license denials on shipments to the persons, will enhance BIS's ability to prevent violations of the EAR.

For the thirty-six persons under forty-six entries added to the Entity List, the ERC specified a license requirement for all items subject to the EAR, and established a license application review policy of a presumption of denial. The license requirement applies to any transaction in which items are to be exported, reexported, or transferred (in-country) to any of the persons or in which such persons act as purchaser, intermediate consignee, ultimate consignee, or end-user. In addition, no license exceptions are available for exports, reexports, or transfers (in-country) to the persons being added to the Entity List in this rule.

This final rule adds the following thirty-six persons under forty-six entries to the Entity List:

Armenia

(1) Vertir Airlines,8/3 D Angaght Street, 376009 Yerevan, Armenia; and 54-100 Mamikonyan Str., Yerevan, Armenial 79, Armenia.

Canada

(1) Saeed Talebi, a.k.a., the following two aliases:

—Al; and

—Allen Talebi.

P.O. Box 626, Gormley, ONT LOH 1G0 Canada (See alternate addresses under Iran and U.A.E.); and

(2) Satco Corporation,P.O. Box 626, Gormley, ONT LOH 1G0 Canada.

China

(1) Beijing Tianhua, a.k.a., the following seventeen aliases:

—Beijing Tianhua International Co., Ltd.;

—Beijing BUAA Tianhua Technology Company;

—Beijing BUAA Tianhua Technology Co., Ltd.;

—Beijing Aerospace Technology Limited Liability Company;

—Beihang Tenfine Industry Group;

—Beijing Beihang Assets Management Co., Ltd.;

—Beijing Beihang Science & Technology Co., Ltd.;

—Beijing Aerospace Technology LLC;

—Beijing North China Aerospace Science & Technology Ltd., Co.;

—Beijing North Space Technology Co., Ltd.;

—Beijing the Tianhua Easytouch International Trade Co., Ltd.;

—North and Astronautics, Beijing China Times Technology Co., Ltd.;

—Beijing Beihang Haier Software Co., Ltd.;

—Red Technology;

—TRW Navigation Communication Technology Co., Ltd.;

—Beijing North Aerospace Co-Technology Co., Ltd.; and

—Beijing Full Three Dimensional Power Engineering Co., Ltd.

37 Xue Yuan Rd., Beijing, China; and

Room 301, 3f Shining Tower, 35 Xue Yuan Lu, Haidian District, Beijing, China; and

Room 311A, 3f Shining Tower, 35 Xue Yuan Lu, Haidian, Beijing, China; and

Room 411A, 4f Shining Tower, 35 Xue Yuan Lu, Haidian, Beijing, China; and

Room 401, 4f Shining Tower, 35 Xue Yuan Lu, Haidian District, Beijing, China; and

Room 402a, 4f Shining Tower, 35 Xue Yuan Lu, Haidian, Beijing, China; and

Xueyan Road, Haidain District, Beijing City, 35th Ning Building, Room 402a;

(2) Comsum Technologies (Group) Ltd., Room 408, Unit 6, Xin Qi Dian Jia Yan, 5 Chang Qiao Road, Beijing, 100089, China (See alternate address under Hong Kong);

(3) Longtek Company, Ltd., a.k.a., the following one alias:

—Beijing Landuyt Feng Technology Co., Ltd. Room 1105, TianZuo International Center A, No, 12, Zhongguncun South Street, Haidan District, Beijing 100081, China; and

(4) Tenfine Ltd., a.k.a., the following two aliases:

—Beijing Beihang Assets Management Co. Ltd.; and

—Tenfine Limited Company.

No 37 Xue Yuan Lu, Haidian, Beijing, China; and

37 Xue Yuan Road, Beijing, China; and Room 401, 4f Shining Tower, 35 Xue Yuan Lu,

Haidian District, Beijing, China; and Room 402b, 4F Shining Tower, 35 Xue Yuan Lu,

Haidian, Beijing, China; and Xueyan Road, Haidain District, Beijing City, 35th Ning Building, Room 402a.

Germany

(1) Satco GmbH, a.k.a., the following one alias:

—Satco Inc.

Park Street 4, Bremen, Germany 28209.

Greece

(1) Aeolian Airlines, 551 Mesogeion Ave, Agia Paraskevi, 15343A, Athens, Greece; and 72 Vouliagmenis Ave, Glyfada 16675, Athens, Greece; and Blg Mtb 1/E 74, Athens, Greece; and 58 Vouliagmenis Ave, Voula 16673, Athens, Greece (See alternate addresses under Turkey); and

(2) Seyyed Abdolreza Mousavi,551 Mesogeion Ave, Agia Paraskevi, 15343A, Athens, Greece (See alternate address under Turkey).

Hong Kong

(1) Anvik Technologies Sdn. Bhd., a.k.a., the following eight aliases:

—Anvik Technologies;

—Cason Technologies;

—Henan Electronics;

—Hixton Technologies;

—Hudson Technologies, Ltd.;

—Hudson Engineering (Hong Kong) Ltd.;

—Madison Engineering Ltd.; and

—Montana Advanced Engineering.

Level 19, Two International Finance Centre, 8 Finance Street, Central, Hong Kong (See alternate addresses under Iran and Malaysia);

(2) Babak Jafarpour, a.k.a., the following five aliases:

—Bob Jefferson;

—Peter Jay;

—Sam Lee;

—Samson Lee; and

—David Lee.

Unit 501, 5/F, Global Gateway, 168 Yeung HK Road, Tsuen Wan, Hong Kong; and9/F, Henan Building, 19 Luard Road, Wanchai, Hong Kong; and Level 19, Two International Finance Centre, 8 Finance Street, Central, Hong Kong (See alternate addresses under Iran and Malaysia);

(3) Comsum Technologies (Group) Ltd.,Room 1005, 10/F Carnarvon Plaza, 20 Carnarvon Road, TST, Kowloon, Hong Kong (See alternate address under China);

(4) FOC (HK) Technology Co., Ltd.,Room 8, 6/F, Shun On Commercial Building, 112-114 Des Voeux Road, Central, Hong Kong; and

(5) Hansen Technologies Limited,Unit 501, 5/F, Global Gateway, 168 Yeung HK Road, Tsuen Wan, Hong Kong; and9/F, Henan Building, 19 Luard Road, Wanchai, Hong Kong.

Iran

(1) Anvik Technologies Sdn. Bhd., a.k.a., the following eight aliases:

—Anvik Technologies;

—Cason Technologies;

—Henan Electronics;

—Hixton Technologies;

—Hudson Technologies, Ltd.;

—Hudson Engineering (Hong Kong) Ltd.;

—Madison Engineering Ltd.; and

—Montana Advanced Engineering.

F10, No. 21, 9th Alley, Vozara Ave., Tehran, Iran (See alternate addresses under Hong Kong and Malaysia);

(2) Babak Jafarpour, a.k.a., the following five aliases:

—Bob Jefferson;

—Peter Jay

—Sam Lee;

—Samson Lee; and

—David Lee.

F10, No. 21, 9th Alley, Vozara Ave., Tehran, Iran (See alternate addresses under Hong Kong and Malaysia);

(3) Mostafa Oveici, a.k.a., the following one alias:

—Mosi Oveici.

Mehrabad Airport, Tehran, Iran (See alternate address under Thailand);

(4) Saeed Talebi, a.k.a., the following two aliases:

—Al; and

—Allen Talebi.

No. 27, Zarif Nia, Pesyan Valley, Tehran, Iran; and No. 3, West Saeb Tabrizi Lane, North Sheikh Bahaee Street, Tehran, Iran (See alternate addresses under Canada and U.A.E.); and

(5) Satco,No. 3, West Saeb Tabrizi Lane, North Sheikh Bahaee Street, Tehran, Iran.

Malaysia

(1) Albin Technologies Sdn Bhd., M-3-19 Plaza Damas, Sri Hartamas, Kuala Lumpur, Malaysia 50480; and P.O. Box 4, Level 13A, Menara Park, Block D, Megan Ave. II, No 12, Jalan Yap Kwan Seng, Kuala Lumpur, Malaysia;

(2) Anvik Technologies Sdn. Bhd., a.k.a., the following eight aliases:

—Anvik Technologies;

—Cason Technologies;

—Henan Electronics;

—Hixton Technologies;

—Hudson Technologies, Ltd.;

—Hudson Engineering (Hong Kong) Ltd.;

—Madison Engineering Ltd.; and

—Montana Advanced Engineering.

—Level 36, Menara Citibank, 165 Jalan Ampang, Kuala Lumpur, Malaysia, 50450; and Level 20, Menara Standard Chartered, 30 Jalan Sultan Ismail, Kuala Lumpur, Malaysia, 50250 (See alternate addresses under Hong Kong and Iran);

(3) Babak Jafarpour, a.k.a., the following five aliases:

—Bob Jefferson;

—Peter Jay;

—Sam Lee;

—Samson Lee; and

—David Lee.

Level 36, Menara Citibank, 165 Jalan Ampang, Kuala Lumpur, Malaysia, 50450; and Level 20, Menara Standard Chartered, 30 Jalan Sultan Ismail, Kuala Lumpur, Malaysia, 50250; and Level 26, Tower 2, Etiqa Twins 11, Jalan Pinang, Kuala Lumpur, Malaysia 50450; and M-3-19 Plaza Damas, Sri Hartamas, Kuala Lumpur, Malaysia 50480 (See alternate addresses under Hong Kong and Iran); and

(4) Montana Advanced Engineering Sdn Bhd., Level 26, Tower 2, Etiqa Twins 11, Jalan Pinang, Kuala Lumpur, Malaysia 50450; and Level 20, Menara Standard Chartered, 30 Jalan Sultan Ismail, Kuala Lumpur, Malaysia, 50250; and P.O. Box 4, Level 13A, Menara Park, Block D, Megan Ave. II, No 12, Jalan Yap Kwan Seng, Kuala Lumpur, Malaysia.

Thailand

(1) Asian Aviation Logistics Co., Ltd., 21 Tower 2nd Floor Zone A805 Srinakarin Road, Suanluang Bangkok 10250 Thailand; and 111/11 Village 0.14 Kingkaew Road, Rajatheva, Bangplee District, Samutprakarn 10540, Thailand; and 188/5 Moo 5 Srinakarin Rd, Samrongnua, Muang, Samut Prakarn 10270, Thailand;

(2) Khalidee Boolay Surinanda, a.k.a., the following one alias:

—Khalidee Boolay Surinandha.

21 Tower 2nd Floor Zone A805 Srinakarin Road, Suanluang Bangkok 10250 Thailand; and 111/11 Village 0.14 Kingkaew Road, Rajatheva, Bangplee District, Samutprakarn 10540, Thailand and 111/11 Village 0.14 King Kaeo Road, Racha Thewa Sub-District, Bang Phli District, Samut Prakarn, 10540, Thailand;

(3) Kosol Surinanda, a.k.a., the following one alias:

—Kosol Surinandha.

140/65 ITF Tower, 27 Floor, Silom Rd., Suriyawongse, Bangrak, Bangkok, 10500, Thailand; and 21 Tower 2nd Floor Zone A805 Srinakarin Road, Suanluang Bangkok 10250 Thailand; and 495 Soi Anamai, Sri-nakarin Road, Suanluang Bangkok 10250 Thailand; and 111/11 Village 0.14 Kingkaew Road, Rajatheva, Bangplee District, Samutprakarn 10540, Thailand; and 111/11 Village 0.14 King Kaeo Road, Racha Thewa Sub-District, Bang Phli District, Samut Prakarn, 10540, Thailand; and

(4) Mostafa Oveici, a.k.a., the following one alias:

—Mosi Oveici.

21 Tower 2nd Floor Zone A805 Srinakarin Road, Suanluang Bangkok 10250 Thailand (See alternate address under Iran).

Turkey

(1) AAG Makina, Mah. Idris Kosku Caddesi Kutu, Sokak No:1 Pierreloti/Eyup, Istanbul, Turkey;

(2) Aeolian Airlines,

Ozgur KK No 4 Da 5 Davran Ap Flo, Istanbul, Turkey; and Davran Ap Florya, Istanbul, Turkey 34153; and Attaturk Airport, Istanbul, Turkey (See alternate addresses under Greece);

(3) Avistar Havacilik Bilisim Turizm Insaat Sanayi Ve Ticaret Limited Sirketi, Yenibosna Dogu Sanayi Sitesi, 9 Blok No: 1, Bahcelievler—Istanbul, Turkey; and Dogu Sanayi Sitesi 9. Blok No: 9/1 Yenibosna, Istanbul, Turkey;

(4) Ergin Turker, Yenibosna Dogu Sanayi Sitesi, 9 Blok No: 1, Bahcelievler—Istanbul, Turkey;

(5) Eurocenter Havacilik Dis Ticaret Limited Sirketi, Kemalpasa Mh, Ordu Cad., Yesil Tulumba Sk No 9, Fatih, Istanbul, Turkey; and Yesil Tulumba Eminonu Sok No.9, Eminonu—Istanbul, Turkey 34143; and Yesil Tulumba Sk:No 9 Fatih, Eminonu—Istanbul, Turkey 34143; and Senlikkoy Mahallesi, Ozgur Sk No. 4, Da:5, Davran Ap Florya, 34153 Istanbul, Turkey;

(6) Gulnihal Yegane, Egs Bloklari B-1 Blok K.1 No: 114, Yesilkoy—Bakirkoy, Istanbul, Turkey; and Huzur mah, Ayazaga Oyak sitesi, 9.Blok, No:19, Sisli, Istanbul, Turkey; and Turgut Reis Mh. Glyimkent Kath Is Merk. K:4 D:4412 Esenler/Istanbul, Turkey; and Onucreis Mah. Giyimkent Sitesi 3. Sokak No:118 Esenler/Istanbul, Turkey;

(7) Kral Aviation Services Ltd., Yesilkoy Mh.Ataturk Cd., Esg Business Park B1. B2 K:6 No:234, Bakirkoy Istanbul, Turkey;

(8) Kral Aviation, a.k.a., the following two aliases:

—Kral Havacilik Ic Ve Dis Ticaret Sirketi; and

—Kral Aviation Ltd.

Senlikkoy Mah, Gumus Sok, No: 1/3, Floor: 11, Florya 134159, Istanbul, Turkey; and Senlikkoy Mah. Gumus Sok. No 3/1 Floor: 1 Florya Istanbul, 34153 Turkey; and Yesilkoy Mh. Ataturk Cad. EGS Business Park Bloklari B2 Blok Kat:6, Istanbul, Turkey;

(9) Murat Peker, Mah. Idris Kosku Caddesi Kutu, Sokak No:1 Pierreloti/Eyup, Istanbul, Turkey.

(10) Pioneer Logistics Havacilik Turizm Yonetim Danismanlik Ithalat Ihracat San. Tic. Ltd. Sti, Egs Bloklari B-1 Blok Kat: 1 No; 114, Yesilkoy—Bakirkoy, Istanbul, Turkey and Huzur mah, Ayazaga Oyak sitesi, 9.Blok, No:19, Sisli, Istanbul, Turkey; and Turgut Reis Mh. Glyimkent Kath Is Merk. K:4 D:4412 Esenler/Istanbul, Turkey and Onucreis Mah. Giyimkent Sitesi 3. Sokak No:118 Esenler/Istanbul, Turkey; and

(11) Seyyed Abdolreza Mousavi, Kemalpasa Mh, Ordu Cad., Yesil Tulumba Sk No 9, Fatih, Istanbul, Turkey (See alternate address under Greece);

United Arab Emirates

(1) Aerostar Asset Management FZC, a.k.a., the following two aliases:

—Star Aviation Group; and

—Star Aviation Services FZC.

Sharjah Airport International Free Zone (Saif Zone), Sharjah, U.A.E.; and P.O. Box 9300, A2-59, Saif Zone, Sharjah, U.A.E.;

(2) Avia Trust, a.k.a. the following one alias:

—Avia Trust FZE.

Warehouse G-22, PO Box 54541, Dubai Airport Free Zone, Dubai, U.A.E.;

(3) Glasgow International Trading, a.k.a. the following one alias:

—Glasgow International General Trading LLC.

P.O. Box 6462, Dubai, U.A.E.; and PO Box 42064, Dubai, U.A.E.

(4) Kadin Satco FZE, No. 28 Street 6, Phase Springs 10, Emirates Hills, Dubai, U.A.E.;

(5) Saeed Talebi, a.k.a., the following two aliases:

—Al; and

—Allen Talebi.

No. 28 Street 6, Phase Springs 10, Emirates Hills, Dubai, U.A.E. (See alternate addresses under Canada and Iran);

(6) Sawa Air Aviation FZCO, a.k.a., the following two aliases:

—Sawa Aviation; and

—Sawa Air.

P.O. Box 42707, Al Sahel Bldg, Fish Round About, Deira, Dubai, U.A.E. 254; and

(7) Thrust Aviation FZE, 17c-F3 PO Box 5406 Fujairah Free Zone, Fujairah, U.A.E.; and PO Box 5232 Fujairah Free Zone, Fujairah U.A.E.; and Q4-168 PO 8318 Sharjah Free Zone, Sharjah, U.A.E.;

Modifications to the Entity List

On the basis of decisions made by the ERC, in addition to the thirty-six persons under forty-six entries additions described above, this rule amends three entries currently on the Entity List.

Two of the amended entries are in Canada. The first entry is amended by removing two addresses, one no longer current and the other duplicative, and the second entry is amended by updating an address, as follows:

Canada

(1) Anastassia Voronkevitch, 7150 Rue Chouinard, Montreal, QC H8N 2Z6 Canada; and

(2) Zurab Kartvelishvili, a.k.a., the following one alias:

—George Kartveli.

7380 Vansickle Rd. Unit 660, St. Catharines, ON L2126P7, Canada; and 127 Rue Wilson, Dollard-des-Ormeaux, Quebec H9A1W7, Canada.

This rule also amends one entry currently on the Entity List, which is currently listed under Sweden. This amendment changes the address for this listed person from one in Sweden to one in Estonia. The amendments provide a corrected address for this listed person, as follows:

Estonia

(1) Andrey Shevlyakov, Kalevipoja 12A, 13625 Tallinn, Estonia.

For the three modifications, the ERC did not change the license requirements or license application review policies. For each of the three entries subject to modifications, the license requirement remains for all items subject to the EAR, and the license application review policy remains a presumption of denial.

Removal From the Entity List

This rule implements a decision of the ERC to remove one entry consisting of one person located in Russia from the Entity List on the basis of a removal request by the listed person. Based upon a review of the information provided in the removal request in accordance with § 744.16 (Procedure for requesting removal or modification of an Entity List entity), the ERC determined that this person should be removed from the Entity List.

The ERC decision to remove this person took into account this person's cooperation with the U.S. Government, as well as this person's assurances of future compliance with the EAR. In accordance with § 744.16(c), the Deputy Assistant Secretary for Export Administration has sent written notification to this person, informing the person of the ERC's decision to remove them from the Entity List.

This final rule removes the following person located in Russia from the Entity List:

Russia

(1) ECO-MED-SM Ltd, Petrovsko-Razumovsky proyezd 29, bed.2, Moscow, Russia 127287.

The removal of the above referenced person from the Entity List eliminates the existing license requirements in Supplement No. 4 to part 744 for exports, reexports and transfers (in-country) to this person. However, the removal of this person from the Entity List does not relieve persons proposing to export, reexport or transfer (in-country) items subject to the EAR to the removed person of other obligations under part 744 of the EAR or under other parts of the EAR. Neither the removal of a person from the Entity List nor the removal of Entity List-based license requirements relieves persons of their obligations under General Prohibition 5 in § 736.2(b)(5) of the EAR which provides that, “you may not, without a license, knowingly export or reexport any item subject to the EAR to an end-user or end-use that is prohibited by part 744 of the EAR.” Additionally this removal does not relieve persons of their obligation to apply for export, reexport or in-country transfer licenses required by other provisions of the EAR. BIS strongly urges the use of Supplement No. 3 to part 732 of the EAR, “BIS's `Know Your Customer' Guidance and Red Flags,” when persons are involved in transactions that are subject to the EAR.

Savings Clause

Shipments of items removed from eligibility for a License Exception or export or reexport without a license (NLR) as a result of this regulatory action that were en route aboard a carrier to a port of export or reexport, on December 12, 2013, pursuant to actual orders for export or reexport to a foreign destination, may proceed to that destination under the previous eligibility for a License Exception or export or reexport without a license (NLR).

Although the Export Administration Act expired on August 20, 2001, the President, through Executive Order 13222 of August 17, 2001, 3 CFR, 2001 Comp., p. 783 (2002), as amended by Executive Order 13637 of March 8, 2013, 78 FR 16129 (March 13, 2013) and as extended by the Notice of August 8, 2013, 78, 2013, 78 FR 49107 (August 12, 2013), has continued the Export Administration Regulations in effect under the International Emergency Economic Powers Act. BIS continues to carry out the provisions of the Export Administration Act, as appropriate and to the extent permitted by law, pursuant to Executive Order 13222.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and carries a burden estimate of 43.8 minutes for a manual or electronic submission. Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. The provisions of the Administrative Procedure Act (5 U.S.C. 553) requiring notice of proposed rulemaking, the opportunity for public comment and a delay in effective date are inapplicable because this regulation involves a military or foreign affairs function of the United States. (See 5 U.S.C. 553(a)(1)). BIS implements this rule to protect U.S. national security or foreign policy interests by preventing items from being exported, reexported, or transferred (in country) to the persons being added to the Entity List. If this rule were delayed to allow for notice and comment and a delay in effective date, then entities being added to the Entity List by this action would continue to be able to receive items without a license and to conduct activities contrary to the national security or foreign policy interests of the United States. In addition, because these parties may receive notice of the U.S. Government's intention to place these entities on the Entity List once a proposed rule was published, it would create an incentive for these persons to either accelerate receiving items subject to the EAR to conduct activities that are contrary to the national security or foreign policy interests of the United States, and/or to take steps to set up additional aliases, change addresses, and other measures to try to limit the impact of the listing on the Entity List once a final rule was published. Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable. Accordingly, no regulatory flexibility analysis is required and none has been prepared.

List of Subject in 15 CFR Part 744

Exports, Reporting and recordkeeping requirements, Terrorism.

Accordingly, part 744 of the Export Administration Regulations (15 CFR parts 730-774) is amended as follows:

PART 744—[AMENDED]

1. The authority citation for 15 CFR part 744 is revised to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of January 17, 2013, 78 FR 4303 (January 22, 2013) Notice of August 8, 2013, 78 FR 49107 (August 12, 2013); Notice of September 18, 2013, 78 FR 58151 (September 20, 2013); Notice of November 7, 2013, 78 FR 67289 (November 12, 2013).

2. Supplement No. 4 to part 744 is amended:

a. By adding under Armenia, in alphabetical order, one Armenian entity;

b. By revising under Canada, the Canadian entities: “Anastassia Voronkevitch, 7320 St. Jacques St. W. Montreal QC, H4B1W1, Canada;” and “Zurab Kartvelishvili, a.k.a., the following one alias: —George Kartveli, 7380 Vansickle Rd. Unit 660, St. Catharines, ON L2126P7, Canada; and 320 St. Jacques St., W. Montreal QC, H4B1W1, Canada; and 7380 Vansickle Rd, Unit 660, St. Catharines, ON L2126P7, Canada; and 127 Rue Wilson, Dollard-des-Ormeaux, Quebec H9A1W7, Canada”;

c. By adding under Canada, in alphabetical order, two Canadian entities;

d. By adding under China, in alphabetical order, four Chinese entities;

e. By adding under Germany, in alphabetical order, one German entity;

f. By adding under Greece, in alphabetical order, two Greek entities;

g. By adding under Hong Kong, in alphabetical order, five Hong Kong entities;

h. By adding under Iran, in alphabetical order, five Iranian entities;

i. By adding under Malaysia, in alphabetical order, four Malaysian entities;

j. By adding in alphabetical order, the destination of Thailand under the Country column and four Thai entities;

k. By adding, in alphabetical order, the destination of Turkey under the Country column and eleven Turkish entities;

l. By adding under the United Arab Emirates, in alphabetical order, seven Emirati entities;

m. By removing under Russia, one Russian entity: “ECO-MED-SM Ltd, Petrovsko-Razumovsky proyezd 29, bed.2, Moscow, Russia 127287;” and

n. By removing under Sweden, the Swedish entity: “Andrey Shevlyakov, Grev Turegatan 14, 11446 Stockholm, Sweden” and then revising and adding the entry under Estonia, as the Estonian entity: “Andrey Shevlyakov, Kalevipoja 12A, 13625 Tallinn, Estonia.”

The additions and revisions read as follows:

Supplement No. 4 to Part 744—Entity List

Country | Entity | License requirement | License review policy | Federal Register citation
* * * * * * *
ARMENIA | Vertir Airlines, 8/3 D Angaght Street, 376009, Yerevan, Armenia; and 54-100 Mamikonyan Str., Yerevan, Armenial 79, Armenia | For all items subject to the EAR. (See § 744.11 of the EAR.) | Presumption of denial | 78 FR [INSERT FR PAGE NUMBER], 12/12/2013.
* * * * * * *
CANADA | * * * * *
| * * * * *
| Anastassia Voronkevitch, 7150 Rue Chouinard, Montreal, QC H8N 2Z6 Canada | For all items subject to the EAR. (See § 744.11 of the EAR.) | Presumption of denial | 77 FR 61249, 10/9/12.78 FR [INSERT FR PAGE NUMBER], 12/12/2013.
| * * * * *
| Saeed Talebi, a.k.a., the following two aliases: Al; and Allen Talebi. P.O. Box 626, Gormley, ONT L0H 1G0 Canada (See alternate addresses under Iran and U.A.E.) | For all items subject to the EAR. (See § 744.11 of the EAR) | Presumption of denial | 78 FR [INSERT FR PAGE NUMBER], 12/12/2013.
| Satco Corporation, P.O. Box 626, Gormley, ONT L0H 1G0 Canada | For all items subject to the EAR. (See § 744.11 of the EAR) | Presumption of denial | 78 FR [INSERT FR PAGE NUMBER], 12/12/2013.
| * * * * *
| Zurab Kartvelishvili, a.k.a., the following one alias: George Kartveli. 7380 Vansickle Rd. Unit 660, St. Catharines, ON L2126P7, Canada; and 127 Rue Wilson, Dollard-des-Ormeaux, Quebec H9A 1W7, Canada | For all items subject to the EAR. (See § 744.11 of the EAR.) | Presumption of denial | 77 FR 61249, 10/9/12. 78 FR [INSERT FR PAGE NUMBER], 12/12/2013.
CHINA, PEOPLE'S REPUBLIC OF | * * * * *
| Beijing Tianhua, a.k.a., the following seventeen aliases: Beijing Tianhua International Co., Ltd.; Beijing BUAA Tianhua Technology Company; Beijing BUAA Tianhua Technology Co., Ltd.; Beijing Aerospace Technology Limited Liability Company; Beihang Tenfine Industry Group; Beijing Beihang Assets Management Co., Ltd.; Beijing Beihang Science & Technology Co., Ltd.; Beijing Aerospace Technology LLC; Beijing North China Aerospace Science & Technology Ltd., Co.; Beijing North Space Technology Co., Ltd.; Beijing the Tianhua Easytouch International Trade Co., Ltd.; North and Astronautics, Beijing China Times Technology Co., Ltd.; Beijing Beihang Haier Software Co., Ltd.; Red Technology; TRW Navigation Communication Technology Co., Ltd.; Beijing North Aerospace Co-Technology Co., Ltd.; and Beijing Full Three Dimensional Power Engineering Co., Ltd. 37 Xue Yuan Rd., Beijing, China; and Room 301, 3f Shining Tower, 35 Xue Yuan Lu, Haidian District, Beijing, China; and Room 311A, 3f Shining Tower, 35 Xue Yuan Lu, Haidian, Beijing, China; and Room 411A, 4f Shining Tower, 35 Xue Yuan Lu, Haidian, Beijing, China; and Room 401, 4f Shining Tower, 35 Xue Yuan Lu, Haidian District, Beijing, China; and Room 402a, 4f Shining Tower, 35 Xue Yuan Lu, Haidian, Beijing, China; and Xueyan Road, Haidain District, Beijing City, 35th Ning Building, Room 402a | For all items subject to the EAR. (See § 744.11 of the EAR) | Presumption of denial | 78 FR [INSERT FR PAGE NUMBER], 12/12/2013.
| * * * * *
| Comsum Technologies (Group) Ltd., Room 408, Unit 6, Xin Qi Dian Jia Yan, 5 Chang Qiao Road, Beijing, 100089, China (See alternate address under Hong Kong) | For all items subject to the EAR. (See § 744.11 of the EAR) | Presumption of denial | 78 FR [INSERT FR PAGE NUMBER], 12/12/2013.
| * * * * *
| Longtek Company, Ltd., a.k.a., the following one alias: Beijing Landuyt Feng Technology Co., Ltd. Room 1105, TianZuo International Center A, No, 12, Zhongguncun South Street, Haidan District, Beijing 100081, China | For all items subject to the EAR. (See § 744.11 of the EAR) | Presumption of denial | 78 FR [INSERT FR PAGE NUMBER], 12/12/2013.
| * * * * *
| Tenfine Ltd., a.k.a., the following two aliases: Beijing Beihang Assets Management Co. Ltd.; and Tenfine Limited Company. No 37 Xue Yuan Lu, Haidian, Beijing, China; and 37 Xue Yuan Road, Beijing, China; and Room 401, 4f Shining Tower, 35 Xue Yuan Lu, Haidian District, Beijing, China; and Room 402b, 4F Shining Tower, 35 Xue Yuan Lu, Haidian, Beijing, China; and Xueyan Road, Haidain District, Beijing City, 35th Ning Building, Room 402a | For all items subject to the EAR. (See § 744.11 of the EAR) | Presumption of denial | 78 FR [INSERT FR PAGE NUMBER], 12/12/2013.
| * * * * * *
* * * * * * *
ESTONIA | Andrey Shevlyakov, Kalevipoja 12A, 13625 Tallinn, Estonia | For all items subject to the EAR. (See § 744.11 of the EAR) | Presumption of denial | 77 FR 61249, 10/9/12. 78 FR [INSERT FR PAGE NUMBER], 12/12/2013.
| * * * * *
* * * * * * *
GERMANY | * * * * *
| Satco GmbH, a.k.a., the following one alias: Satco Inc. Park Street 4, Bremen, Germany 28209 | For all items subject to the EAR. (See § 744.11 of the EAR) | Presumption of denial | 78 FR [INSERT FR PAGE NUMBER], 12/12/2013.
| * * * * *
GREECE | Aeolian Airlines, 551 Mesogeion Ave, Agia Paraskevi, 15343A, Athens, Greece; and72 Vouliagmenis Ave, Glyfada 16675, Athens, Greece; andBlg Mtb 1/E 74, Athens, Greece; and 58 Vouliagmenis Ave, Voula 16673, Athens, Greece;(See alternate addresses under Turkey) | For all items subject to the EAR. (See § 744.11 of the EAR) | Presumption of denial | 78 FR [INSERT FR PAGE NUMBER AND 12/12/2013.
| * * * * *
| Seyyed Abdolreza Mousavi, 551 Mesogeion Ave, Agia Paraskevi, 15343A, Athens, Greece; (See alternate address under Turkey) | For all items subject to the EAR. (See § 744.11 of the EAR) | Presumption of denial | 78 FR [INSERT FR PAGE NUMBER], 12/12/2013.
| * * * * *
HONG KONG | * * * * *
| Anvik Technologies Sdn. Bhd., a.k.a., the following eight aliases: Anvik Technologies; Cason Technologies; Henan Electronics; Hixton Technologies; Hudson Technologies, Ltd.; Hudson Engineering (Hong Kong) Ltd.; Madison Engineering Ltd.;and Montana Advanced Engineering. Level 19, Two International Finance Centre, 8 Finance Street, Central, Hong Kong (See alternate addresses under Iran and Malaysia) | For all items subject to the EAR. (See § 744.11 of the EAR) | Presumption of denial | 78 FR [INSERT FR PAGE NUMBER], 12/12/2013.
| Babak Jafarpour, a.k.a., the following five aliases: Bob Jefferson;-Peter Jay; Sam Lee; Samson Lee; and David Lee. Unit 501, 5/F, Global Gateway, 168 Yeung HK Road, Tsuen Wan, Hong Kong; and 9/F, Henan Building, 19 Luard Road, Wanchai, Hong Kong; and Level 19, Two International Finance Centre, 8 Finance Street, Central, Hong Kong (See alternate addresses under Iran and Malaysia) | For all items subject to the EAR. (See § 744.11 of the EAR) | Presumption of denial | 78 FR [INSERT FR PAGE NUMBER], 12/12/2013.
| * * * * *
| Comsum Technologies (Group) Ltd., Room 1005, 10/F Carnarvon Plaza, 20 Carnarvon Road, TST, Kowloon, Hong Kong (See alternate address under China) | For all items subject to the EAR. (See § 744.11 of the EAR) | Presumption of denial | 78 FR [INSERT FR PAGE NUMBER], 12/12/2013.
| * * * * *
| FOC (HK) Technology Co., Ltd., Room 8, 6/F, Shun On Commercial Building, 112-114 Des Voeux Road, Central, Hong Kong | For all items subject to the EAR. (See § 744.11 of the EAR) | Presumption of denial | 78 FR [INSERT FR PAGE NUMBER], 12/12/2013.
| * * * * *
| Hansen Technologies Limited, Unit 501, 5/F, Global Gateway, 168 Yeung HK Road, Tsuen Wan, Hong Kong; and 9/F, Henan Building, 19 Luard Road, Wanchai, Hong Kong | For all items subject to the EAR. (See § 744.11 of the EAR) | Presumption of denial | 78 FR [INSERT FR PAGE NUMBER], 12/12/2013.
| * * * * *
* * * * * * *
IRAN | * * * * *
| Anvik Technologies Sdn. Bhd., a.k.a., the following eight aliases: Anvik Technologies; Cason Technologies; Henan Electronics; Hixton Technologies; Hudson Technologies, Ltd.; Hudson Engineering (Hong Kong) Ltd.; Madison Engineering Ltd.; and Montana Advanced Engineering. F10, No. 21, 9th Alley, Vozara Ave., Tehran, Iran (See alternate addresses under Hong Kong and Malaysia). | For all items subject to the EAR. (See § 744.11 of the EAR) | Presumption of denial | 78 FR [INSERT FR PAGE NUMBER] 12/12/2013.
| * * * * *
| Babak Jafarpour, a.k.a., the following five aliases: Bob Jefferson; Peter Jay; Sam Lee; Samson Lee; and David Lee. F10, No. 21, 9th Alley, Vozara Ave., Tehran, Iran (See alternate addresses under Hong Kong and Malaysia) | For all items subject to the EAR. (See § 744.11 of the EAR) | Presumption of denial | 78 FR [INSERT FR PAGE NUMBER], 12/12/2013.
| * * * * *
| Mostafa Oveici, a.k.a., the following one alias: Mosi Oveici. Mehrabad Airport, Tehran, Iran, (See alternate address under Thailand) | For all items subject to the EAR. (See § 744.11 of the EAR) | Presumption of denial | 78 FR [INSERT FR PAGE NUMBER], 12/12/2013.
| * * * * *
| Saeed Talebi, a.k.a., the following two aliases: Al; and Allen Talebi. No. 27, Zarif Nia, Pesyan Valley, Tehran, Iran; and No. 3, West Saeb Tabrizi Lane, North Sheikh Bahaee Street, Tehran, Iran (See alternate addresses under Canada and U.A.E.) | For all items subject to the EAR. (See § 744.11 of the EAR) | Presumption of denial | 78 FR [INSERT FR PAGE NUMBER], 12/12/2013.
| * * * * *
| Satco, No. 3, West Saeb Tabrizi Lane, North Sheikh Bahaee Street, Tehran, Iran | For all items subject to the EAR. (See § 744.11 of the EAR) | Presumption of denial | 78 FR [INSERT FR PAGE NUMBER], 12/12/2013.
| * * * * *
* * * * * * *
MALAYSIA | * * * * *
| Albin Technologies Sdn Bhd., M-3-19 Plaza Damas, Sri Hartamas, Kuala Lumpur, Malaysia 50480; and P.O. Box 4, Level 13A, Menara Park, Block D, Megan Ave. II, No 12, Jalan Yap Kwan Seng, Kuala Lumpur, Malaysia | For all items subject to the EAR. (See § 744.11 of the EAR) | Presumption of denial | 78 FR [INSERT FR PAGE NUMBER], 12/12/2013.
| * * * * *
| Anvik Technologies Sdn. Bhd., a.k.a., the following eight aliases: Anvik Technologies; Cason Technologies, Henan Electronics; Hixton Technologies; Hudson Technologies, Ltd.; Hudson Engineering (Hong Kong) Ltd.; Madison Engineering Ltd.; and Montana Advanced Engineering. Level 36, Menara Citibank, 165 Jalan Ampang, Kuala Lumpur, Malaysia, 50450; and Level 20, Menara Standard Chartered, 30 Jalan Sultan Ismail, Kuala Lumpur, Malaysia, 50250, (See alternate addresses under Hong Kong and Iran) | For all items subject to the EAR. (See § 744.11 of the EAR) | Presumption of denial | 78 FR [INSERT FR PAGE NUMBER], 12/12/2013.
| * * * * *
| Babak Jafarpour, a.k.a., the following five aliases: Bob Jefferson; Peter Jay; Sam Lee; Samson Lee; and David Lee. Level 36, Menara Citibank, 165 Jalan Ampang, Kuala Lumpur, Malaysia, 50450; and Level 20, Menara Standard Chartered, 30 Jalan Sultan Ismail, Kuala Lumpur, Malaysia, 50250; and Level 26, Tower 2, Etiqa Twins 11, Jalan Pinang, Kuala Lumpur, Malaysia 50450; and M-3-19 Plaza Damas, Sri Hartamas, Kuala Lumpur, Malaysia 50480 (See alternate addresses under Hong Kong and Iran) | For all items subject to the EAR. (See § 744.11 of the EAR) | Presumption of denial | 78 FR [INSERT FR PAGE NUMBER], 12/12/2013.
| * * * * *
| Montana Advanced Engineering Sdn Bhd., Level 26, Tower 2, Etiqa Twins 11, Jalan Pinang, Kuala Lumpur, Malaysia 50450; and Level 20, Menara Standard Chartered, 30 Jalan Sultan Ismail, Kuala Lumpur, Malaysia, 50250; and P.O. Box 4, Level 13A, Menara Park, Block D, Megan Ave. II, No 12, Jalan Yap Kwan Seng, Kuala Lumpur, Malaysia | For all items subject to the EAR. (See § 744.11 of the EAR) | Presumption of denial | 78 FR [INSERT FR PAGE NUMBER], 12/12/2013.
| * * * * *
* * * * * * *
THAILAND | Asian Aviation Logistics Co., Ltd., 21 Tower 2nd Floor Zone A805 Srinakarin Road, Suanluang Bangkok 10250 Thailand; and 111/11 Village 0.14 Kingkaew Road, Rajatheva, Bangplee District, Samutprakarn 10540, Thailand; and 188/5 Moo 5 Srinakarin Rd, Samrongnua, Muang, Samut Prakarn 10270, Thailand | For all items subject to the EAR. (See § 744.11 of the EAR) | Presumption of denial | 78 FR [INSERT FR PAGE NUMBER], 12/12/2013.
| Khalidee Boolay Surinanda, a.k.a., the following one alias: Khalidee Boolay Surinandha. 21 Tower 2nd Floor Zone A805 Srinakarin Road, Suanluang Bangkok 10250 Thailand; and 111/11 Village 0.14 Kingkaew Road, Rajatheva, Bangplee District, Samutprakarn 10540, Thailand; and 111/11 Village 0.14 King Kaeo Road, Racha Thewa Sub-District, Bang Phli District, Samut Prakarn, 10540, Thailand | For all items subject to the EAR. (See § 744.11 of the EAR) | Presumption of denial | 78 FR [INSERT FR PAGE NUMBER], 12/12/2013.
| Kosol Surinanda, a.k.a., the following one alias: Kosol Surinandha.140/65 ITF Tower, 27 Floor, Silom Rd., Suriyawongse, Bangrak, Bangkok, 10500, Thailand; and 21 Tower 2nd Floor Zone A805 Srinakarin Road, Suanluang Bangkok 10250 Thailand; and495 Soi Anamai, Srinakarin Road, Suanluang Bangkok 10250 Thailand;and 111/11 Village 0.14 Kingkaew Road, Rajatheva, Bangplee District, Samutprakarn 10540, Thailand; and 111/11 Village 0.14 King Kaeo Road, Racha Thewa Sub-District, Bang Phli District, Samut Prakarn, 10540, Thailand | For all items subject to the EAR. (See § 744.11 of the EAR) | Presumption of denial | 78 FR [INSERT FR PAGE NUMBER], 12/12/2013.
| Mostafa Oveici, a.k.a., the following one alias: Mosi Oveici. 21 Tower 2nd Floor Zone A805 Srinakarin Road, Suanluang Bangkok 10250 Thailand, (See alternate address under Iran) | For all items subject to the EAR. (See § 744.11 of the EAR) | Presumption of denial | 78 FR [INSERT FR PAGE NUMBER], 12/12/2013.
TURKEY | AAG Makina, Mah. Idris Kosku Caddesi Kutu, Sokak No: 1 Pierreloti/Eyup, Istanbul, Turkey | For all items subject to the EAR. (See § 744.11 of the EAR) | Presumption of denial | 78 FR [INSERT FR PAGE NUMBER], 12/12/2013.
| Aeolian Airlines, Ozgur KK No 4 Da 5 Davran Ap Flo, Istanbul, Turkey; and Davran Ap Florya, Istanbul, Turkey 34153; and Attaturk Airport, Istanbul, Turkey, (See alternate addresses under Greece) | For all items subject to the EAR. (See § 744.11 of the EAR) | Presumption of denial | 78 FR [INSERT FR PAGE NUMBER], 12/12/2013.
| Avistar Havacilik Bilisim Turizm Insaat Sanayi Ve Ticaret Limited Sirketi, Yenibosna Dogu Sanayi Sitesi, 9 Blok No: 1, Bahcelievler—Istanbul, Turkey; and Dogu Sanayi Sitesi 9. Blok No:9/1 Yenibosna, Istanbul, Turkey | For all items subject to the EAR. (See § 744.11 of the EAR) | Presumption of denial | 78 FR [INSERT FR PAGE NUMBER], 12/12/2013.
| Ergin Turker, Yenibosna Dogu Sanayi Sitesi, 9 Blok No: 1, Bahcelievler—Istanbul, Turkey | For all items subject to the EAR. (See § 744.11 of the EAR) | Presumption of denial | 78 FR [INSERT FR PAGE NUMBER], 12/12/2013.
| Eurocenter Havacilik Dis Ticaret Limited Sirketi, Kemalpasa Mh, Ordu Cad., Yesil Tulumba Sk No 9, Fatih, Istanbul, Turkey; and Yesil Tulumba Eminonu Sok No. 9, Eminonu—Istanbul, Turkey 34143; and Yesil Tulumba Sk: No 9 Fatih, Eminonu Istanbul, Turkey 34143; and Senlikkoy Mahallesi, Ozgur Sk No. 4, Da: 5, Davran Ap Florya, 34153 Istanbul, Turkey | For all items subject to the EAR. (See § 744.11 of the EAR) | Presumption of denial | 78 FR [INSERT FR PAGE NUMBER], 12/12/2013.
| Gulnihal Yegane, Egs Bloklari B-1 Blok K.1 No: 114, Yesilkoy Bakirkoy, Istanbul, Turkey; and Huzur mah, Ayazaga Oyak sitesi, 9. Blok, No: 19, Sisli, Istanbul, Turkey; and Turgut Reis Mh. Glyimkent Kath Is Merk. K:4 D:4412 Esenler/Istanbul, Turkey; and Onucreis Mah. Giyimkent Sitesi 3. Sokak No:118 Esenler/Istanbul, Turkey | For all items subject to the EAR. (See § 744.11 of the EAR) | Presumption of denial | 78 FR [INSERT FR PAGE NUMBER], 12/12/2013.
| Kral Aviation Services Ltd., Yesilkoy Mh.Ataturk Cd., Esg Business Park B1. B2 K:6 No:234, Bakirkoy Istanbul, Turkey | For all items subject to the EAR. (See § 744.11 of the EAR) | Presumption of denial | 78 FR [INSERT FR PAGE NUMBER], 12/12/2013.
| Kral Aviation, a.k.a., the following two aliases: Kral Havacilik Ic Ve Dis Ticaret Sirketi; and Kral Aviation Ltd. Senlikkoy Mah, Gumus Sok, No: 1/3, Floor: 11, Florya 134159, Istanbul, Turkey; and Senlikkoy Mah. Gumus Sok. No 3/1 Floor: 1 Florya Istanbul, 34153 Turkey and Yesilkoy Mh. Ataturk Cad. EGS Business Park Bloklari B2 Blok Kat:6, Istanbul Turkey | For all items subject to the EAR. (See § 744.11 of the EAR) | Presumption of denial | 78 FR [INSERT FR PAGE NUMBER], 12/12/2013.
| Murat Peker, Mah. Idris Kosku Caddesi Kutu, Sokak No: 1 Pierreloti/Eyup, Instanbul, Turkey | For all items subject to the EAR. (See § 744.11 of the EAR) | Presumption of denial | 78 FR [INSERT FR PAGE NUMBER], 12/12/2013.
| Pioneer Logistics Havacilik Turizm Yonetim Danismanlik Ithalat Ihracat San. Tic. Ltd. Sti, Egs Bloklari B-1 Blok Kat: 1 No; 114, Yesilkoy Bakirkoy, Istanbul, Turkey and Huzur mah, Ayazaga Oyak sitesi, 9. Blok, No:19, Sisli, Istanbul, Turkey; and Turgut Reis Mh. Glyimkent Kath Is Merk. K:4 D:4412 Esenler/Istanbul, Turkey and Onucreis Mah. Giyimkent Sitesi 3. Sokak No:118 Esenler/Istanbul, Turkey | For all items subject to the EAR. (See § 744.11 of the EAR) | Presumption of denial | 78 FR [INSERT FR PAGE NUMBER], 12/12/2013.
| Seyyed Abdolreza Mousavi, Kemalpasa Mh, Ordu Cad., Yesil Tulumba Sk No 9, Fatih, Istanbul, Turkey, (See alternate address under Greece) | For all items subject to the EAR. (See § 744.11 of the EAR) | Presumption of denial | 78 FR [INSERT FR PAGE NUMBER], 12/12/2013.
* * * * * * *
UNITED ARAB EMIRATES | * * * * *
| Aerostar Asset Management FZC, a.k.a., the following two aliases: Star Aviation Group; and Star Aviation Services FZC. Sharjah Airport International Free Zone (Saif Zone), Sharjah, United Arab Emirates; and P.O. Box 9300, A2-59, Saif Zone, Sharjah, U.A.E | For all items subject to the EAR. (See § 744.11 of the EAR) | Presumption of denial | 78 FR [INSERT FR PAGE NUMBER], 12/12/2013.
| * * * * *
| Avia Trust, a.k.a., the following one alias: Avia Trust FZE. Warehouse G-22 PO Box 54541, Dubai Airport Free Zone Dubai, U.A.E | For all items subject to the EAR. (See § 744.11 of the EAR) | Presumption of denial | 78 FR [INSERT FR PAGE NUMBER], 12/12/2013.
| * * * * *
| Glasgow International Trading, a.k.a., the following one alias: Glasgow International General Trading LLC. P.O. Box 6462, Dubai, U.A.E.; and P.O. Box 42064, Dubai U.A.E | For all items subject to the EAR. (See § 744.11 of the EAR) | Presumption of denial | 78 FR [INSERT FR PAGE NUMBER], 12/12/2013.
| * * * * *
| Kadin Satco FZE, No. 28 Street 6, Phase Springs 10, Emirates Hills, Dubai, U.A.E | For all items subject to the EAR. (See § 744.11 of the EAR) | Presumption of denial | 78 FR [INSERT FR PAGE NUMBER], 12/12/2013.
| * * * * *
| Saeed Talebi, a.k.a., the following two aliases: Al; and Allen Talebi. No. 28 Street 6, Phase Springs 10, Emirates Hills, Dubai, U.A.E., (See alternate addresses under Canada and Iran) | For all items subject to the EAR. (See § 744.11 of the EAR) | Presumption of denial | 78 FR [INSERT FR PAGE NUMBER], 12/12/2013.
| Sawa Air Aviation FZCO, a.k.a., the following two aliases: Sawa Aviation; and Sawa Air. P.O. Box 42707, Al Sahel Bldg, Fish Round About, Deira, Dubai, U.A.E. 254 | For all items subject to the EAR. (See § 744.11 of the EAR) | Presumption of denial | 78 FR [INSERT FR PAGE NUMBER], 12/12/2013.
| * * * * *
| Thrust Aviation FZE, 17c-F3 PO Box 5406 Fujairah Free Zone, Fujairah U.A.E.; and PO Box 5232 Fujairah Free Zone, Fujairah U.A.E.; and Q4-168 PO 8318 Sharjah Free Zone, Sharjah, U.A.E | For all items subject to the EAR. (See § 744.11 of the EAR) | Presumption of denial | 78 FR [INSERT FR PAGE NUMBER], 12/12/2013.
| * * * * *
* * * * * * *

Dated: November 21, 2013.
Kevin J. Wolf,
Assistant Secretary for Export Administration.

[FR Doc. 2013-28663 Filed 12-11-13; 8:45 am]

BILLING CODE 3510-33-P